DEPARTMENT OF THE INTERIOR

Bureau of Safety and Environmental Enforcement

[Docket ID BSEE-2016-0008; OMB Number 1014-0001; 17XE17000DX EEEE500000 EX1SF0000.DAQ000]

Information Collection Activities: Oil and Gas Well-Workover Operations; Submitted for Office of Management and Budget (OMB) Review; Comment Request

ACTION: 30-day Notice.

SUMMARY: To comply with the Paperwork Reduction Act of 1995 (PRA), the Bureau of Safety and Environmental Enforcement (BSEE) is notifying the public that we have submitted to OMB an information collection request (ICR) to renew approval of the paperwork requirements in the regulations under Subpart F, Oil and Gas Well-Workover Operations. This notice also provides the public a second opportunity to comment on the revised paperwork burden of these regulatory requirements.

DATES: You must submit comments by December 7, 2016.

ADDRESSES: Submit comments by either fax (202) 395-5806 or email (OIRA_Submission@omb.eop.gov) directly to the Office of Information and Regulatory Affairs, OMB, Attention: Desk Officer for the Department of the Interior (1014-0001). Please provide a copy of your comments to BSEE by any of the means below.

• Electronically: Go to http://www.regulations.gov and search for BSEE-2016-0008. Follow the instructions to submit public comments and view all related materials. We will post all comments.

• Email Kelly.Odom@bsee.gov, fax (703) 787-1546, or mail or hand-carry comments to: Department of the Interior; Bureau of Safety and Environmental Enforcement; Regulations and Standards Branch; Attention: Kelly Odom; 45600 Woodland Road, Sterling, VA 20166. Please reference 1014-0001 in your comment and include your name and return address.

FOR FURTHER INFORMATION CONTACT: Kelly Odom, Regulations and Standards Branch, (703) 787-1775, to request additional information about this ICR. To see a copy of the entire ICR submitted to OMB, go to http://www.reginfo.gov (select Information Collection Review, Currently Under Review).

SUPPLEMENTARY INFORMATION:

Title: 30 CFR 250, Subpart F, Oil and Gas Well-Workover Operations.

OMB Control Number: 1014-0001.

Abstract: The Outer Continental Shelf (OCS) Lands Act at 43 CFR 1334 authorizes the Secretary of the Interior to prescribe rules and regulations to administer leasing of mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

These authorities and responsibilities are among those delegated to BSEE. The regulations at 30 CFR 250, Subpart F, concern oil and gas well-workover operations and are the subject of this collection. This request also covers the related Notices to Lessees and Operators (NTLs) that BSEE issues to clarify, supplement, or provide additional guidance on some aspects of our regulations.

BSEE uses the information collected under Subpart F in our efforts to analyze and evaluate planned well-workover operations to ensure that these operations result in personnel safety and protection of the environment. They use this evaluation in making decisions to approve, disapprove, or to require modification to the proposed well-workover operations. Specifically, BSEE uses the information collected to:

• Review log entries of crew meetings to verify that safety procedures have been properly reviewed.

• review well-workover procedures relating to hydrogen sulfide (H2S) to ensure the safety of the crew in the event of encountering H2S.

• review well-workover diagrams and procedures to ensure the safety of well-workover operations.

• verify that the crown block safety device is operating and can be expected to function and avoid accidents.

• assure that the well-workover operations are conducted on well casing that is structurally competent.

Frequency: On occasion.

Description of Respondents: Potential respondents comprise Federal OCS oil, gas, and sulfur lessees and/or operators, and holders of pipeline rights-of-way.

Estimated Reporting and Recordkeeping Hour Burden: The estimated annual hour burden for this information collection is a total of 5,284 hours. Responses are mostly mandatory and one requirement is to retain/maintain a benefit. The following chart details the individual components and estimated hour burdens. In calculating the burdens, we assumed that respondents perform certain requirements in the normal course of their activities. We consider these to be usual and customary and took that into account in estimating the burden.

Citation 30 CFR 250, subpart F | Reporting requirement | Hour burden | Average number of annual reponses | Annual burden hours (rounded)
Requests
600-620 | General departure and alternative compliance requests not specifically covered elsewhere in Subpart F regulations | Burden covered under 1014-0022 |  | 041
611 | Document results weekly of traveling-block safety device in the operations log | 2 | 365 workovers x 3 results = 1,095 | 2190
612 | Request establishment/amendment/cancellation of field well-workover rules | 6.5 | 20 requests | 130
613; 616(a)(4); 619(f) | These sections contain references to information, approvals, requests, payments, etc., which are submitted with an APM, the burdens for which are covered under its own information collection | Burden covered under 1014-0026 |  | 0
613(d) | Submit to District Manager on Form BSEE-0125, End of Operations Report, an operation resulting in the initial recompletion of a well into a new zone, include a new schematic of the tubing subsurface equipment if subsurface equipment has been changed | Burden covered under 1014-0018 |  | 0
614(b) | Post number of stands of drill pipe or workover string and drill collars that may be pulled prior to filing the hole and equivalent well-control fluid volume | 1.13 | 291 postings | 329
619(b) | Notify BSEE if sustained casing pressure is observed on a well | 5 | 527 notifications | 2,635
Total Burden |  |  | 1,933 Responses | 5,284

Estimated Reporting and Recordkeeping Non-Hour Cost Burden: There are no non-hour cost burdens associated with this collection.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on July 8, 2016, we published a Federal Register notice (81 FR 44657) announcing that we would submit this ICR to OMB for approval. The notice provided the required 60-day comment period. In addition, § 250.199 provides the OMB Control Number for the information collection requirements imposed by the 30 CFR 250, Subpart F regulations. The regulation also informs the public that they may comment at any time on the collection of information and provides the address to which they should send comments. We did not receive any comments in response to the Federal Register notice.

Public Availability of Comments: Before including your address, phone number, email address, or other personal identifying information in your comment, you should be aware that your entire comment—including your personal identifying information—may be made publicly available at any time. While you can ask us in your comment to withhold your personal identifying information from public review, we cannot guarantee that we will be able to do so.

BSSE Information Collection Clearance Officer: Nicole Mason (703) 787-1607.

Keith Good,
Senior Advisor, Office of Offshore Regulatory Programs.

[FR Doc. 2016-26814 Filed 11-4-16; 8:45 am]

BILLING CODE 4310-VH-P